DEPARTMENT OF HOMELAND SECURITY

Office of the Secretary

[Docket No. DHS-2005-0053]

Homeland Security Advisory Council

AGENCY: Office of the Secretary, DHS.

ACTION: Notice of Federal Advisory Committee Meeting.

SUMMARY: The Homeland Security Advisory Council (HSAC) will hold a teleconference for the purposes of receiving a report and recommendations from a HSAC Task Force, and holding member deliberations. The HSAC will receive a final report from the HSAC Private Sector Information Sharing Task Force, Chaired by Mayor Patrick McCrory, Mayor of Charlotte, North Carolina. The Task Force will report on the topic of information sharing with the Private Sector. Following the Task Force report, the HSAC will hold deliberations and discussions among HSAC members.

DATES: This meeting will be held via teleconference on Wednesday, August 10, 2005, and will begin at 3:05 p.m. e.d.t.

ADDRESSES: If you desire to submit comments, they must be submitted by August 5, 2005. Comments must be identified by DHS-2005-0053 and may be submitted by one of the following methods:

• EPA Federal Partner EDOCKET Web Site: http://www.epa.gov/feddocket. Follow instructions for submitting comments on the Web site.

• Federal eRulemaking Portal: http://www.regulations.gov. Follow the instructions for submitting comments.

• E-mail: HSAC@dhs.gov. Include docket number in the subject line of the message.

• Fax: (202) 772-9718.

• Mail: Katie Knapp, Homeland Security Advisory Council, Department of Homeland Security, Washington, DC 20528.

Docket: For access to the docket to read background documents or comments received, go to http://www.epa.gov/feddocket. You may also access the Federal eRulemaking Portal at http://www.regulations.gov.

FOR FURTHER INFORMATION CONTACT: For additional information concerning the meeting, please contact Mike Miron or Katie Knapp of the HSAC Executive Staff Member via email at HSAC@dhs.gov, or via phone at (202) 692-4283.

SUPPLEMENTARY INFORMATION: Public Attendance:Members of the public may register to dial in and listen to this teleconference by contacting the Department officials listed above no later than 5 p.m., e.d.t., on Friday, August 5, 2005, via e-mail at HSAC@dhs.gov, or via phone at (202) 692-4283. Upon registration, instructions for the dial in will be provided. Persons with hearing disabilities who desire to obtain a transcript of the teleconference must request that the Department produce and provide a verbatim transcript based upon special needs due to a physical impairment at the time of registration. Absent any such request, the Department may not produce a verbatim transcript of the meeting.

Dated: July 19, 2005.
Kathryn Knapp,
Special Assistant, Homeland Security Advisory Council, U.S. Department of Homeland Security.

[FR Doc. 05-14603 Filed 7-20-05; 3:00 pm]

BILLING CODE 4410-10-P